DEPARTMENT OF ENERGY

Federal Energy Regulatory Commission

Combined Notice of Filings #1

June 02, 2008.

Take notice that the Commission received the following electric corporate filings:

Docket Numbers: EC08-69-000.

Applicants: Public Service Company of New Mexico.

Description: Amendment to Application of Public Service Company of New Mexico.

Filed Date: 05/27/2008.

Accession Number: 20080527-5055.

Comment Date: 5 p.m. Eastern Time on Friday, June 6, 2008.

Docket Numbers: EC08-93-000.

Applicants: Pittsfield Generating Company, L.P., PE-Pittsfield LLC, Pittsfield Power Holding Company LLC, Pittsfield Power GP LLC.

Description: Pittsfield Generating Company et al. submits an application for authorization of the disposition of jurisdictional facilities.

Filed Date: 05/23/2008.

Accession Number: 20080528-0145.

Comment Date: 5 p.m. Eastern Time on Friday, June 13, 2008.

Take notice that the Commission received the following electric rate filings:

Docket Numbers: ER99-1757-014.

Applicants: The Empire District Electric Company.

Description: Empire District Electric Company submits Sixth Revised Sheet 1 and Second Revised Sheet 1A as part of its FERC Electric Tariff, First Volume 3 effective 9/18/07.

Filed Date: 05/27/2008.

Accession Number: 20080529-0055.

Comment Date: 5 p.m. Eastern Time on Tuesday, June 17, 2008.

Docket Numbers: ER03-9-012; ER98-2157-013.

Applicants: Westar Energy, Inc.; Kansas Gas and Electric Company.

Description: Westar Energy, Inc. et al. submits a notice of non-material change in status related to Westar's ownership and control of approximately 300 MW of natural gas-fired combustion turbine generation through the construction of new generation.

Filed Date: 05/29/2008.

Accession Number: 20080602-0110.

Comment Date: 5 p.m. Eastern Time on Thursday, June 19, 2008.

Docket Numbers: ER03-1413-005.

Applicants: Sempra Energy Trading Corp.

Description: Sempra Energy Trading, LLC submits response to FERC's 4/22/08 supplemental request for additional information.

Filed Date: 05/22/2008.

Accession Number: 20080528-0052.

Comment Date: 5 p.m. Eastern Time on Thursday, June 12, 2008.

Docket Numbers: ER07-476-002.

Applicants: ISO New England Inc., New England Power Pool.

Description: ISO New England et al. submits proposed amendments to the ISO Tariff in compliance with the Commission's 2/25/08 order in the proceeding and with Order 681 and 681-A on long-term firm transmission rights.

Filed Date: 05/27/2008.

Accession Number: 20080529-0054.

Comment Date: 5 p.m. Eastern Time on Tuesday, June 17, 2008.

Docket Numbers: ER07-1372-008.

Applicants: Midwest Independent Transmission System Operator, Inc.

Description: Midwest Independent Transmission System Operator Inc. submits amendments to their Balancing Authority Agreement in connection with the establishment of Ancillary Services Markets etc.

Filed Date: 05/23/2008.

Accession Number: 20080528-0091.

Comment Date: 5 p.m. Eastern Time on Friday, June 13, 2008.

Docket Numbers: ER07-521-004.

Applicants: New York Independent System Operator, Inc.

Description: New York Independent System Operator Inc. submits an errata to its 5/16/08 compliance filing.

Filed Date: 05/23/2008.

Accession Number: 20080528-0094.

Comment Date: 5 p.m. Eastern Time on Friday, June 13, 2008.

Docket Numbers: ER08-92-004.

Applicants: Virginia Electric and Power Company.

Description: Dominion Virginia Power submits revised tariff sheets in Attachments H-16A and H-16B to PJM Interconnection, LLC's open-access transmission tariff and on 6/2/08 submits an errata to this filing.

Filed Date: 05/29/2008; 06/02/2008.

Accession Number: 20080602-0101; 20080603-0144.

Comment Date: 5 p.m. Eastern Time on Thursday, June 19, 2008.

Docket Numbers: ER08-394-002.

Applicants: Midwest Independent Transmission System Operator, Inc.

Description: Midwest Independent Transmission System Operator, Inc. submits proposed revisions to its Open Access Transmission and Energy Markets Tariff in compliance with the Commission's directives.

Filed Date: 05/27/2008.

Accession Number: 20080529-0053.

Comment Date: 5 p.m. Eastern Time on Tuesday, June 17, 2008.

Docket Numbers: ER08-627-002.

Applicants: NSTAR Electric Company.

Description: NSTAR Electric Company submits proposed clarification and revisions to Schedule 20A-NSTAR of the ISO New England Inc. Open Access Transmission Tariff to comply with the 30 day compliance filing directives set forth etc.

Filed Date: 05/29/2008.

Accession Number: 20080602-0112.

Comment Date: 5 p.m. Eastern Time on Thursday, June 19, 2008.

Docket Numbers: ER08-628-001.

Applicants: California Independent System Operator Corporation.

Description: California Independent System Operator Corporation submits the instant filing in compliance with the Commission's Order Conditional Accepting Tariff Revisions etc.

Filed Date: 05/29/2008.

Accession Number: 20080602-0111.

Comment Date: 5 p.m. Eastern Time on Thursday, June 19, 2008.

Docket Numbers: ER08-961-001.

Applicants: Arizona Public Service Company.

Description: Arizona Public Service Company submits revision to its May 15 informational filing of its Annual Update of transmission service rates pursuant to the APS Open Access Transmission Tariff.

Filed Date: 05/27/2008.

Accession Number: 20080529-0052.

Comment Date: 5 p.m. Eastern Time on Tuesday, June 17, 2008.

Docket Numbers: ER08-1004-000.

Applicants: Global Advisors Power Marketing, LP.

Description: Global Advisors Power Marketing, LP submits Notice of Cancellation, a Second Revised Sheet 1 to their market-based rate tariff.

Filed Date: 05/23/2008.

Accession Number: 20080527-0035.

Comment Date: 5 p.m. Eastern Time on Friday, June 13, 2008.

Docket Numbers: ER08-1005-000.

Applicants: Southern California Edison Company.

Description: Southern California Edison Co. submits the Large Generator Interconnection Agreement with Terra-Gen Dixie Valley, LLC et al.

Filed Date: 05/23/2008.

Accession Number: 20080527-0034.

Comment Date: 5 p.m. Eastern Time on Friday, June 13, 2008.

Docket Numbers: ER08-1006-000.

Applicants: Entergy Services, Inc.

Description: Entergy Mississippi, Inc. submits amendments to the Amended and Restated Interconnection and Operating Agreement with Southaven Power, LLC.

Filed Date: 05/23/2008.

Accession Number: 20080527-0036.

Comment Date: 5 p.m. Eastern Time on Friday, June 13, 2008.

Docket Numbers: ER08-1008-000.

Applicants: Arizona Public Service Company.

Description: Arizona Public Service Co. submits an Interconnection Agreement with Electrical District No. 3 of Pinal County, AZ.

Filed Date: 05/23/2008.

Accession Number: 20080528-0090.

Comment Date: 5 p.m. Eastern Time on Friday, June 13, 2008.

Docket Numbers: ER08-1009-000.

Applicants: Kansas City Power & Light Company.

Description: Kansas City Power & Light Co. submits First Revised FERC Rate Schedule 101.

Filed Date: 05/27/2008.

Accession Number: 20080528-0089.

Comment Date: 5 p.m. Eastern Time on Tuesday, June 17, 2008.

Docket Numbers: ER08-1010-000.

Applicants: Commonwealth Edison Company, Commonwealth Edison Co. of Indiana, Inc.

Description: Commonwealth Edison Company Indiana, Inc. submits revise Attachment H-13 (Network Integration Transmission Service for the ConEd Zone) of the PJM Interconnection, LLC Open Access Transmission Tariff.

Filed Date: 05/27/2008.

Accession Number: 20080529-0051.

Comment Date: 5 p.m. Eastern Time on Tuesday, June 17, 2008.

Docket Numbers: ER08-1011-000.

Applicants: California Independent System Operator Corporation.

Description: California Independent System Operator Corporation submits an amendment to the CAISO's Market Redesign and Technology Upgrade Tariff.

Filed Date: 05/23/2008.

Accession Number: 20080529-0050.

Comment Date: 5 p.m. Eastern Time on Friday, June 13, 2008.

Docket Numbers: ER08-1012-000.

Applicants: PPL Renewable Energy, LLC.

Description: PPL Renewable Energy, LLC submits the Application to sell Electric Energy Capacity and Ancillary Services at Market-Based Rates.

Filed Date: 05/28/2008.

Accession Number: 20080529-0167.

Comment Date: 5 p.m. Eastern Time on Wednesday, June 18, 2008.

Docket Numbers: ER08-1013-000.

Applicants: Mirant Lovett, LLC.

Description: Mirant Lovett LLC seeks to cancel their FERC Electric Tariff, First Revised Volume 1, effective 7/28/08.

Filed Date: 05/28/2008.

Accession Number: 20080529-0166.

Comment Date: 5 p.m. Eastern Time on Wednesday, June 18, 2008.

Docket Numbers: ER08-1014-000.

Applicants: Niagara Mohawk Power Corporation.

Description: National Grid submits First Revised Service Agreement 1163 with Fibertek Energy LLC under New York Independent System Operator LLC open access transmission tariff, FERC Electric Tariff, Original Volume 1.

Filed Date: 05/28/2008.

Accession Number: 20080529-0165.

Comment Date: 5 p.m. Eastern Time on Wednesday, June 18, 2008.

Docket Numbers: ER08-1015-000.

Applicants: Ameren Services Company.

Description: Central Illinois Public Service Company submits an executed service agreement for Wholesale Distribution Service with Mt. Carmel Public Utility Co.

Filed Date: 05/28/2008.

Accession Number: 20080529-0164.

Comment Date: 5 p.m. Eastern Time on Wednesday, June 18, 2008.

Docket Numbers: ER08-1016-000.

Applicants: PJM Interconnection, L.L.C.

Description: PJM Interconnection LLC submits revisions to the PJM Open Access Transmission Tariff and the Amended and Restated Operating Agreement.

Filed Date: 05/28/2008.

Accession Number: 20080529-0163.

Comment Date: 5 p.m. Eastern Time on Wednesday, June 18, 2008.

Docket Numbers: ER08-1017-000.

Applicants: PacifiCorp.

Description: PacifiCorp submits Service Agreement 452 dated 4/30/08 for the provision of Long-Term Firm Point-to-Point Transmission Service Between Powerex and PacifiCorp.

Filed Date: 05/29/2008.

Accession Number: 20080602-0109.

Comment Date: 5 p.m. Eastern Time on Thursday, June 19, 2008.

Docket Numbers: ER08-1018-000.

Applicants: Bangor Hydro-Electric Company.

Description: Bangor Hydro-Electric Company submits revisions to its local service schedule set forth as Schedule 21-BHE in the ISO New England Inc Transmission Markets and Services Tariff.

Filed Date: 05/29/2008.

Accession Number: 20080602-0108.

Comment Date: 5 p.m. Eastern Time on Thursday, June 19, 2008.

Docket Numbers: ER08-1019-000.

Applicants: Wisconsin Electric Power Company.

Description: Wisconsin Electric Power Company submits Metering Service Agreement with Alliant Energy Nennah LLC, FERC Tariff 120, effective 6/1/08.

Filed Date: 05/29/2008.

Accession Number: 20080602-0107.

Comment Date: 5 p.m. Eastern Time on Thursday, June 19, 2008.

Docket Numbers: ER08-1021-000.

Applicants: CMS Distributed Power, L.L.C.

Description: CMS Distributed Power, LLC submits cancellation of market-based electric power tariff.

Filed Date: 05/29/2008.

Accession Number: 20080602-0106.

Comment Date: 5 p.m. Eastern Time on Thursday, June 19, 2008.

Docket Numbers: ER96-780-019; ER01-1633-007; ER00-3240-010; ER03-1383-010.

Applicants: Southern Company Services, Inc.; Southern Company—Florida LLC; Oleander Power Project, L.P.; DeSoto County Generating Company, LLC.

Description: Alabama Power Co et al. submits a Report of Non-Material Change In Status and Order 697 Compliance Filing.

Filed Date: 05/23/2008.

Accession Number: 20080528-0050.

Comment Date: 5 p.m. Eastern Time on Friday, June 13, 2008.

Docket Numbers: ER98-855-010.

Applicants: Wisconsin Electric Power Company.

Description: Wisconsin Electric Power Co submits its Revised Rate Schedule to comply with FERC's 4/18/08 Order and Order 697-A.

Filed Date: 05/23/2008.

Accession Number: 20080528-0093.

Comment Date: 5 p.m. Eastern Time on Friday, June 13, 2008.

Take notice that the Commission received the following open access transmission tariff filings:

Docket Numbers: OA07-54-005; ER07-1291-004.

Applicants: PacifiCorp.

Description: PacifiCorp submits revised business practices, in compliance with FERC's 4/28/08 order.

Filed Date: 05/28/2008.

Accession Number: 20080529-0168.

Comment Date: 5 p.m. Eastern Time on Wednesday, June 18, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-13037 Filed 6-10-08; 8:45 am]

BILLING CODE 6717-01-P